DEPARTMENT OF ENERGY

Federal Energy Regulatory Commission

Combined Notice of Filings # 1

March 29, 2010.

Take notice that the Commission received the following electric corporate filings:

Docket Numbers: EC10-56-000.

Applicants: Lost Creek Wind, LLC.

Description: Application of Lost Creek Wind, LLC for Authorization of Disposition of Jurisdictional Facilities, and Requests for Waivers of Certain Filing Requirements, Shortened Comment Period and Expedited Consideration.

Filed Date: 03/26/2010.

Accession Number: 20100326-5110.

Comment Date: 5 p.m. Eastern Time on Friday, April 16, 2010.

Take notice that the Commission received the following electric rate filings:

Docket Numbers: ER05-1195-006.

Applicants: Silverhill, Ltd.

Description: Notification of Non-Material Change in Status of Silverhill Ltd.

Filed Date: 03/26/2010.

Accession Number: 20100326-5015.

Comment Date: 5 p.m. Eastern Time on Friday, April 16, 2010.

Docket Numbers: ER07-501-025; ER10-78-002; ER05-305-006; ER02-1747-007; ER04-878-005; ER98-1767-021; ER99-1695-017; ER99-2984-015; ER02-1942-015; ER02-1749-007.

Applicants: Birchwood Power Partners, L.P.; Orange Grove Energy, L.P.; Pinelawn Power LLC; PPL Shoreham Energy, LLC; Equus Power I, L.P.; Tenaska Frontier Partners, Ltd.; Elwood Energy, LLC; Green Country Energy, LLC; Tenaska Virginia Partners, LP; PPL Edgewood Energy, LLC.

Description: J-Power North America Holdings, Ltd. Notification of Non-Material Change in Status.

Filed Date: 03/26/2010.

Accession Number: 20100326-5121.

Comment Date: 5 p.m. Eastern Time on Friday, April 16, 2010.

Docket Numbers: ER10-678-002.

Applicants: Southwest Power Pool, Inc.

Description: Southwest Power Pool, Inc submits Substitute Sixth Revised Sheet 14 et al to its FERC Electric Tariff, Fifth Revised Volume 1 to be effective 3/31/10.

Filed Date: 03/25/2010.

Accession Number: 20100326-0208.

Comment Date: 5 p.m. Eastern Time on Thursday, April 15, 2010.

Docket Numbers: ER10-764-001.

Applicants: Central Maine Power Company.

Description: Central Maine Power Company submits Engineering and Procurement Agreement dated 1/20/09 with Record Hill Wind, LLC designated as Original Service Agreement.

Filed Date: 03/26/2010.

Accession Number: 20100326-0211.

Comment Date: 5 p.m. Eastern Time on Friday, April 16, 2010.

Docket Numbers: ER10-911-001.

Applicants: Wisconsin Electric Power Company.

Description: Wisconsin Electric Power Company submits counterpart signature pages re the Wholesale Distribution Service Agreement.

Filed Date: 03/26/2010.

Accession Number: 20100329-0201.

Comment Date: 5 p.m. Eastern Time on Friday, April 16, 2010.

Docket Numbers: ER10-936-000.

Applicants: Public Service Electric and Gas Company, PSEG Energy Resources & Trade LLC.

Description: Public Service Electric and Gas Company et al submits request for waiver of applicable provisions in market-based rate tariff.

Filed Date: 03/26/2010.

Accession Number: 20100326-0210.

Comment Date: 5 p.m. Eastern Time on Friday, April 16, 2010.

Docket Numbers: ER10-937-000.

Applicants: PacifiCorp.

Description: PacifiCorp submits large Generator Interconnection Agreement Facilities Maintenance Agreement dated 3/9/10 with FPL Energy Stateline II, Inc, etc.

Filed Date: 03/26/2010.

Accession Number: 20100326-0212.

Comment Date: 5 p.m. Eastern Time on Friday, April 16, 2010.

Docket Numbers: ER10-938-000.

Applicants: Duke Energy Business Services, LLC.

Description: Duke Energy submits Interconnection Agreement with East Kentucky Power Cooperative, Inc.

Filed Date: 03/26/2010.

Accession Number: 20100329-0205.

Comment Date: 5 p.m. Eastern Time on Friday, April 16, 2010.

Docket Numbers: ER10-939-000.

Applicants: Mid-Continent Area Power Pool.

Description: Mid-Continent Area Power Pool submits Commission revisions to MAPP's FERC Electric Tariff, First Revised Volume 1.

Filed Date: 03/26/2010.

Accession Number: 20100329-0204.

Comment Date: 5 p.m. Eastern Time on Friday, April 16, 2010.

Docket Numbers: ER10-940-000.

Applicants: New York Independent System Operator, Inc.

Description: New York Independent System Operator, Inc submits proposed revisions to its Open Access Transmission Tariff and its Market Administration and Control Area Services Tariff to clarify certain meter data posting and customers review etc.

Filed Date: 03/26/2010.

Accession Number: 20100329-0202.

Comment Date: 5 p.m. Eastern Time on Friday, April 16, 2010.

Docket Numbers: ER10-942-000.

Applicants: ISO New England Inc., New England Power Pool.

Description: ISO New England Inc et al submit revisions to their Financial Assurance Policy and Billing Policy.

Filed Date: 03/26/2010.

Accession Number: 20100329-0207.

Comment Date: 5 p.m. Eastern Time on Friday, April 16, 2010.

Take notice that the Commission received the following electric securities filings:

Docket Numbers: ES10-31-000.

Applicants: Midwest Independent Transmission System Operator, Inc.

Description: Application of Midwest Independent Transmission System Operator, Inc. under Section 204 of the Federal Power Act to Issue Securities.

Filed Date: 03/26/2010.

Accession Number: 20100326-5122.

Comment Date: 5 p.m. Eastern Time on Friday, April 16, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-7818 Filed 4-6-10; 8:45 am]

BILLING CODE 6717-01-P